DEPARTMENT OF AGRICULTURE

Agricultural Marketing Service

7 CFR Part 1145

RIN 0581-AE37

[Doc. No. AMS-DA-25-0001]

Reauthorization of Dairy Forward Pricing Program: Correction

AGENCY: Agricultural Marketing Service, USDA.

ACTION: Final rule; correction.

SUMMARY: The Agricultural Marketing Service (AMS), Dairy Program published a final rule in the Federal Register of April 23, 2025, concerning the reauthorization of the Dairy Forward Pricing Program (DFPP) in accordance with the American Relief Act, 2025 (Relief Act). The Relief Act reauthorizes the DFPP program to allow handlers to enter into new contracts until September 30, 2025. This document will correct references to “E.O. 12415.”

DATES: Effective May 7, 2025.

FOR FURTHER INFORMATION CONTACT: Erin Taylor, USDA/AMS/Dairy Programs, Order Formulation and Enforcement Division, STOP 0231—Room 2530, 1400 Independence Avenue SW, Washington, DC 20250-0231, (202) 720-4392; Telephone: (202) 720-7183; Email: Erin.Taylor@usda.gov.

SUPPLEMENTARY INFORMATION:

Correction

In the final rule FR Doc. 2025-06939, beginning on page 16997 in the issue of April 23, 2025, make the following correction. On page 16997, in the third column, in the SUPPLEMENTARY INFORMATION section, correct references to “E.O. 12415” to read “E.O. 14215.”

Erin Morris,
Acting Administrator, Agricultural Marketing Service.

[FR Doc. 2025-07880 Filed 5-6-25; 8:45 am]

BILLING CODE P